DEPARTMENT OF TRANSPORTATION

Federal Aviation Administration

14 CFR Part 39

[Docket No. FAA-2015-2208; Directorate Identifier 2015-NE-19-AD; Amendment 39-18447; AD 2016-07-02]

RIN 2120-AA64

Airworthiness Directives; Honeywell International Inc. (Type Certificate Previously Held by AlliedSignal Inc., Garrett Turbine Engine Company) Turbofan Engines

AGENCY: Federal Aviation Administration (FAA), DOT.

ACTION: Final rule.

SUMMARY: We are adopting a new airworthiness directive (AD) for certain Honeywell International Inc. (Honeywell) TFE731-4, -4R, -5AR, -5BR, and -5R turbofan engines. This AD was prompted by a report of certain interstage turbine transition (ITT) ducts failing to meet containment capability requirements. This AD requires replacing certain ITT ducts. We are issuing this AD to prevent failure of the ITT duct, which could lead to an uncontained part release, damage to the engine, and damage to the airplane.

DATES: This AD is effective May 5, 2016

The Director of the Federal Register approved the incorporation by reference of a certain publication listed in this AD as of May 5, 2016.

ADDRESSES: For service information identified in this final rule, contact Honeywell International Inc., 111 S 34th Street, Phoenix, AZ 85034-2802; phone: 800-601-3099; Internet: https://myaerospace.honeywell.com/wps/portal/!ut/. You may view this service information at the FAA, Engine & Propeller Directorate, 1200 District Avenue, Burlington, MA. For information on the availability of this material at the FAA, call 781-238-7125. It is also available on the Internet at http://www.regulations.gov by searching for and locating Docket No. FAA-2015-2208.

Examining the AD Docket

You may examine the AD docket on the Internet at http://www.regulations.gov by searching for and locating Docket No. FAA-2015-2208; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Joseph Costa, Aerospace Engineer, Los Angeles Aircraft Certification Office, FAA, Transport Airplane Directorate, 3960 Paramount Blvd., Lakewood, CA 90712-4137; phone: 562-627-5246; fax: 562-627-5210; email: joseph.costa@faa.gov.

SUPPLEMENTARY INFORMATION:

Discussion

We issued a notice of proposed rulemaking (NPRM) to amend 14 CFR part 39 by adding an AD that would apply to Honeywell TFE731-4, -4R, -5AR, -5BR, and -5R turbofan engines with ITT duct, part number (P/N) 3075292-4, installed, with a serial number (S/N) listed in Table 2 of Honeywell Service Bulletin (SB) TFE731-72-3789, Revision 0, dated March 23, 2015. The NPRM published in the Federal Register on October 29, 2015 (80 FR 66481). The NPRM was prompted by report of certain ITT ducts that were not properly heat treated and failed to meet containment capability requirements. The NPRM proposed to require replacing certain ITT ducts. We are issuing this AD to correct the unsafe condition on these products.

Comments

We gave the public the opportunity to participate in developing this AD. We received no comments on the NPRM (80 FR 66481, October 29, 2015) or on the determination of the cost to the public.

Conclusion

We reviewed the relevant data and determined that air safety and the public interest require adopting this AD as proposed except for minor editorial changes. We have determined that these minor changes:

• Are consistent with the intent that was proposed in the NPRM (80 FR 66481, October 29, 2015) for correcting the unsafe condition; and

• Do not add any additional burden upon the public than was already proposed in the NPRM (80 FR 66481, October 29, 2015).

Related Service Information Under 1 CFR Part 51

We reviewed Honeywell SB TFE731-72-3789, Revision 0, dated March 23, 2015. The SB describes procedures for removing affected ITT ducts. This service information is reasonably available because the interested parties have access to it through their normal course of business or by the means identified in the ADDRESSES section.

Costs of Compliance

We estimate that this AD affects 47 engines installed on airplanes of U.S. registry. We also estimate that it will take about 2 hours per engine to comply with this AD. The average labor rate is $85 per hour. We estimate that replacement parts will cost $15,000 per engine. Based on these figures, we estimate the total cost of the AD to U.S. operators to be $712,990.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-07-02 Honeywell International Inc. (Type Certificate previously held by AlliedSignal Inc., Garrett Turbine Engine Company): Amendment 39-18447; Docket No. FAA-2015-2208; Directorate Identifier 2015-NE-19-AD.

(a) Effective Date

This AD is effective May 5, 2016.

(b) Affected ADs

None.

(c) Applicability

This AD applies to all Honeywell International Inc. (Honeywell) TFE731-4, -4R, -5AR, -5BR, and -5R turbofan engines with an interstage turbine transition (ITT) duct, part number (P/N) 3075292-4, installed, with a serial number (S/N) listed in Table 2 of Honeywell Service Bulletin (SB) TFE731-72-3789, Revision 0, dated March 23, 2015.

(d) Unsafe Condition

This AD was prompted by a report of certain ITT ducts failing to meet containment capability requirements. We are issuing this AD to prevent failure of the ITT duct, which could lead to an uncontained part release, damage to the engine, and damage to the airplane.

(e) Compliance

Comply with this AD within the compliance times specified, unless already done.

(1) At the next removal of the ITT duct from the engine not to exceed 2,600 hours time-in-service after the effective date of this AD, remove the affected ITT duct and replace with a part eligible for installation.

(2) Reserved.

(f) Definition

For the purpose of this AD, a part eligible for installation is an ITT duct with an S/N that is not listed in Table 2 of Honeywell SB TFE731-72-3789, Revision 0, dated March 23, 2015 or, if listed in Table 2 of this SB, was reworked using Honeywell SB TFE731-72-3789.

(g) Installation Prohibition

After the effective date of this AD, do not install any ITT duct with an S/N listed in Table 2 of Honeywell SB TFE731-72-3789, Revision 0, dated March 23, 2015, onto any engine, unless the ITT duct is marked with the overhaul/repair instructions number “P35864” near the ITT duct P/N and S/N markings.

(h) Alternative Methods of Compliance (AMOCs)

The Manager, Los Angeles Aircraft Certification Office, FAA, may approve AMOCs for this AD. Use the procedures found in 14 CFR 39.19 to make your request.

(i) Related Information

For more information about this AD, contact Joseph Costa, Aerospace Engineer, Los Angeles Aircraft Certification Office, FAA, Transport Airplane Directorate, 3960 Paramount Blvd., Lakewood, CA 90712-4137; phone: 562-627-5246; fax: 562-627-5210; email: joseph.costa@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Honeywell Service Bulletin TFE731-72-3789, Revision 0, dated March 23, 2015.

(ii) Reserved.

(3) For Honeywell service information identified in this AD, contact Honeywell International Inc., 111 S 34th Street, Phoenix, AZ 85034-2802; phone: 800-601-3099; Internet: https://myaerospace.honeywell.com/wps/portal/!ut/.

(4) You may view this service information at FAA, Engine & Propeller Directorate, 1200 District Avenue, Burlington, MA. For information on the availability of this material at the FAA, call 781-238-7125.

(5) You may view this service information that is incorporated by reference at the National Archives and Records Administration (NARA). For information on the availability of this material at NARA, call 202-741-6030, or go to: http://www.archives.gov/federal-register/cfr/ibr-locations.html.

Issued in Burlington, Massachusetts, on March 21, 2016.
Colleen M. D'Alessandro,
Manager, Engine & Propeller Directorate, Aircraft Certification Service.

[FR Doc. 2016-07231 Filed 3-30-16; 8:45 am]

BILLING CODE 4910-13-P